DEPARTMENT OF HEALTH AND HUMAN SERVICES

Centers for Disease Control and Prevention

Delegation of Authority

Notice is hereby given that the Director, Centers for Disease Control and Prevention (CDC), has delegated to the Director, National Institute for Occupational Safety and Health, CDC, without the authority to redelegate, the authorities under the Firefighter Cancer Registry Act of 2018 (Pub. L. 115-194).

This delegation became effective on November 25, 2019. In addition, the Director, CDC, hereby adopts any actions taken that involve the exercise of the authorities delegated herein prior to the effective date of the delegation.

Dated: November 25, 2019.
Robert K. McGowan,
Chief of Staff, CDC.

[FR Doc. 2019-25983 Filed 11-29-19; 8:45 am]

BILLING CODE 4163-18-P